AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be sent via e-mail to David_Rostker@omb.eop.gov or fax to 202-395-7285. Copies of submission may be obtained by calling (202) 712-1365.

SUPPLEMENTARY INFORMATION: OMB Number: OMB 0412-NEW.

Form Number: N/A.

Title: USAID 22 CFR 226.91, Marking Requirements, “Branding Strategy” and “Marking Plan”.

Type of Submission: New.

Purpose: The proposed information collection consists of the requirement for Apparent Successful Applicants to submit a Branding Strategy and Marking Plan as defined in the Final Rule (70 FR 50188, August 26, 2005). The information collected will be the Apparent Successful Applicant's proposal on how to brand and mark with the USAID Identify, the USAID funded program, project, activity, public communication or commodity. Respondents will consist of only those applicants for USAID funding who have been requested to submit a Branding Strategy and Marking Plan by the Agreement Officer.

Annual Reporting Burden:

Respondents: 500.

Total annual responses: 500.

Total annual hours requested: 1750 hours.

Dated: December 14, 2005.
Joanne Paskar,
Chief, Information and Records Division, Office of Administrative Services, Bureau for Management.

[FR Doc. 05-24287 Filed 12-20-05; 8:45 am]

BILLING CODE 6116-01-M